DEPARTMENT OF AGRICULTURE

Commodity Credit Corporation

Actions Taken To Ease Transportation Issues Exacerbated by Hurricane Katrina

AGENCY: Commodity Credit Corporation, USDA.

ACTION: Notice; Request for proposal.

SUMMARY: The Commodity Credit Corporation (CCC) is providing notification to all interested parties regarding additional actions pursuant to the September 20, 2005 announcement to ease transportation issues exacerbated by Hurricane Katrina. CCC is seeking proposals from interested parties for unloading barges of agricultural commodities located in the New Orleans area to make them available to transport 2005-crop agricultural commodities.

DATES: Proposals should be submitted November 14, 2005 to be assured consideration.

ADDRESSES: CCC invites interested persons to submit proposals on this notice. Proposals may be submitted by any of the following methods:

• E-Mail: Send proposals to: Richard.Mashek@kcc.usda.gov.

• Fax: Send proposals to (816) 823-1805.

• Mail: Send proposals to: Contract Reconciliation Division, ATTN: Rick Mashek, P.O. Box 419205, Stop 8758, Kansas City, MO 64133-4676.

• Hand Delivery or Courier: Deliver proposals to 6501 Beacon Drive, STOP 8758, Kansas City, MO 64133.

FOR FURTHER INFORMATION CONTACT: James Goff, Warehouse and Inventory Division, Farm Service Agency, United States Department of Agriculture, 1400 Independence Avenue, SW., STOP 0553, Washington, DC 20250-0553, telephone (202) 720-5396, fax (202) 690-3123, e-mail: James.Goff@wdc.usda.gov. Persons with disabilities who require alternative means for communication for regulatory information (Braille, large print, audiotape, etc.) should contact USDA's TARGET Center at (202) 720-2600 (voice and TDD).

SUPPLEMENTARY INFORMATION: On September 20, 2005, CCC announced additional steps to reduce further stress on the grain transportation system caused by Hurricane Katrina. The industry-focused actions outlined in the press release include assisting with the movement of barges of agricultural commodities from New Orleans, providing incentives for alternative storage of grain, and encouraging alternative shipping patterns to relieve pressure on the Mississippi River transportation system. The goals of these actions were to create velocity and capacity in the transportation system and to take advantage of under-utilized handling facilities. In a Federal Register Notice emergency-filed by the Office of the Federal Register for public inspection on September 30, 2005, and published October 5, 2005 (70 FR 58179), CCC requested proposals related to these steps be submitted to USDA by October 5, 2005. This notice is seeking additional proposals from interested parties related to unloading barges of agricultural commodities in New Orleans to make the barges available to transport 2005-harvested commodities.

The CCC Charter Act (15 U.S.C. 714 et. seq.) provides the authority for this action. Specifically, sections 5(b) and 5(d) (15 U.S.C. 714c(b) and 714c(d)) allow CCC to make available materials and facilities required in connection with the production and marketing of agricultural commodities, and allows CCC to remove and dispose of, or aid in the removal and disposition of, surplus agricultural commodities.

Barges containing agricultural commodities originally loaded and shipped to the New Orleans area for export or further processing remain without an outlet because of conditions caused by Hurricane Katrina. Some of the agricultural commodities stored on the barges have deteriorated in quality, further limiting possible outlets.

CCC will provide up to $7.6 million in funding for this initiative. CCC will consider all proposals on a competitive basis, but will not consider proposals in excess of $30 per ton. This per-ton cap reflects current barge freight rates as shown below:

Barge Transportation Rates
[Dollars per short ton]
2005 | 2005: This week | 2005: Next month | 2005: 2 months out | 2005: 3 months out | 2004 | 2004: This week | 2004: Next month | 2004: 2 months out | 2004: 3 months out
Minneapolis-St. Paul
8/3/2005 | 20.49 | 23.58 | 25.56 | 22.35 | 8/4/2004 | 13.68 | 17.27 | 18.57 | 17.27
8/10/2005 | 21.48 | 24.51 | 25.07 | 22.59 | 8/11/2004 | 13.93 | 17.58 | 18.57 | 17.33
8/17/2005 | 23.83 | 25.19 | 25.07 | 22.59 | 8/18/2004 | 14.55 | 17.52 | 18.88 | 17.39
8/24/2005 | 23.15 | 25.13 | 25.56 | 22.96 | 8/25/2004 | 14.18 | 17.39 | 18.57 | 17.52
8/31/2005 | 31.57 | 31.32 | 27.86 | 27.11 | 9/1/2004 | 14.24 | 18.63 | 16.90 | closed
9/7/2005 | 33.18 | 34.54 | 30.95 | closed | 9/8/2004 | 14.24 | 18.63 | 16.90 | closed
9/14/2005 | 34.05 | 37.26 | 31.26 | closed | 9/15/2004 | 19.44 | 20.86 | 17.95 | closed
9/21/2005 | 30.02 | 33.30 | 28.16 | closed | 9/22/2004 | 20.74 | 21.48 | 17.52 | closed
9/28/2005 | 33.92 | 35.90 | 29.90 | closed | 9/29/2004 | 23.65 | 23.71 | 18.57 | closed
10/5/2005 | 36.71 | 32.93 | closed | closed | 10/6/2004 | 24.76 | 20.80 | closed | closed
10/12/2005 | 41.66 | 35.90 | closed | closed | 10/13/2004 | 20.74 | 19.37 | closed | closed
10/19/2005 | 38.69 | 35.16 | closed | closed | 10/20/2004 | 19.93 | 19.93 | closed | closed
10/26/2005 | 44.26 | 39.93 | closed | closed | 10/27/2004 | 23.65 | 22.22 | closed | closed
St. Louis
8/3/2005 | 9.46 | 12.37 | 13.29 | 10.93 | 8/4/2004 | 7.18 | 10.29 | 10.69 | 7.46
8/10/2005 | 10.93 | 13.21 | 13.77 | 11.25 | 8/11/2004 | 7.14 | 10.45 | 10.77 | 7.46
8/17/2005 | 13.09 | 14.48 | 14.36 | 11.21 | 8/18/2004 | 8.70 | 10.57 | 10.89 | 7.42
8/24/2005 | 14.08 | 14.88 | 15.36 | 11.33 | 8/25/2004 | 8.30 | 10.81 | 10.89 | 7.42
8/31/2005 | 23.94 | 21.95 | 18.95 | 13.69 | 9/1/2004 | 8.46 | 10.77 | 7.70 | 6.30
9/7/2005 | 27.33 | 22.62 | 19.95 | 12.97 | 9/8/2004 | 10.33 | 10.97 | 7.70 | 6.42
9/14/2005 | 28.05 | 24.34 | 18.47 | 13.49 | 9/15/2004 | 14.88 | 12.77 | 8.10 | 6.58
9/21/2005 | 20.31 | 22.46 | 16.48 | 13.17 | 9/22/2004 | 15.56 | 13.09 | 10.61 | 6.62
9/28/2005 | 28.53 | 23.94 | 17.48 | 13.33 | 9/29/2004 | 16.52 | 13.73 | 9.54 | 7.02
10/5/2005 | 30.76 | 18.83 | 14.28 | 13.69 | 10/6/2004 | 16.08 | 9.30 | 7.38 | 7.22
10/12/2005 | 36.75 | 19.15 | 15.08 | 14.12 | 10/13/2004 | 12.25 | 9.30 | 7.02 | 6.98
10/19/2005 | 25.62 | 18.87 | 14.88 | 14.32 | 10/20/2004 | 11.05 | 9.62 | 7.26 | 7.26
10/26/2005 | 21.35 | 17.44 | 14.36 | 14.12 | 10/27/2004 | 14.68 | 10.93 | 7.78 | 7.90

I. Unloading Barges of Agricultural Commodities

CCC will consider proposals and enter into agreements with operators to unload barges of agricultural commodities located in the New Orleans area for the purpose of making the barges available to move 2005-crop commodities. CCC has not and will not take title to the agricultural commodity. The barges must have been loaded and shipped to the New Orleans area before August 29, 2005, when Hurricane Katrina made landfall. The barges must be unloaded by December 1, 2005, unless extended in writing by CCC, to accelerate barge availability to geographical areas under harvest pressure. There are no restrictions on the actual unload location, final destination or disposition of the agricultural commodities; however there must not be a negative market impact. This offer of economic assistance is only available to unload barges of agricultural commodities and facilitate barge availability.

II. Proposal Requirements

Proposals must include the following information:

(1) Number of barges that contain agricultural commodities;

(2) Type of agricultural commodity;

(3) Quantity of agricultural commodities;

(4) Market value of the agricultural commodity as of date proposal is submitted:

(5) Current location;

(6) Date the barges arrived in the New Orleans area;

(7) Location where barge will be discharged, if different from item 4 above;

(8) Proposed disposition and compensation received for the sale of the agricultural commodity;

(9) Dollar amount per ton of assistance requested, not to exceed $30 per ton;

(10) Whether the loss or damage to the agricultural commodity was covered by an insurance policy and, if so, the amount of indemnity received; and

(11) A point of contact with applicable phone number, facsimile number, e-mail address and mailing address.

Operators entering into agreements with CCC will be required to meet certain documentation and certification requirements. These requirements will allow CCC to verify the unloading of the barges, the quantity and value of the agricultural commodity, and any compensation received for the final disposition of the agricultural commodity.

III. Proposal Evaluation Criteria and Award

Proposals must be evaluated objectively in accordance with the regulations on “Competition in the awarding of discretionary grants and cooperative agreements” found at 7 CFR part 3015.158. The following criteria must be used equally in the evaluation:

(1) Proposal's cost in relation to the agricultural commodity's current market value;

(2) Net positive impact on barge availability; and

(3) Overall cost-effectiveness of proposal.

CCC will notify interested parties of approval of their proposal.

Signed at Washington, DC November 1, 2005.
Teresa C. Lasseter,
Executive Vice-President, Commodity Credit Corporation.

[FR Doc. 05-22239 Filed 11-3-05; 1:51 pm]

BILLING CODE 3410-05-P